TENNESSEE VALLEY AUTHORITY

Sunshine Act Meeting

Agency Holding the Meeting: Tennessee Valley Authority (Meeting No. 1530).

Time and Date: 9 a.m. (CDT), May 17, 2001.

Place: Whispering Woods Hotel and Conference Center Amphitheater, 11200 East Goodman Road, Olive Branch, Mississippi.

Status: Open.

Agenda

Approval of minutes of meeting held on April 18, 2001.

New Business

C—Energy

C1. Supplement to Contract No. 98NNX-224696 with Pinkerton Government Services, Inc., for security services.

C2. Supplement to contract with Haefely Trench for coupling capacitor voltage transformers, gas transformers, and line traps for Transmission/Power Supply.

C3. Supplement to Contract No. 99PPW-235218-002 with Alstom Power, Inc., Environmental Systems Division to design, manufacture, and deliver selective catalytic reduction process equipment for any TVA Fossil Plant.

C4. Supplement to Contract No. 99PPW-235218-001 with Cormetech, Inc., to design, manufacture, and deliver selective catalytic reduction catalyst for any TVA Fossil Plant.

E—Real Property Transactions

E1. Grant of a permanent easement for a sewerline to the Town of Centerville, Tennessee, affecting approximately 0.19 acre and a temporary construction easement affecting approximately 0.10 acre of the Centerville Line Crew Headquarters property in Hickman County, Tennessee, Tract No. XCVCH-1S.

E2. Sale of a noncommercial, nonexclusive permanent easement to Edward and Karen Wendling for construction, operation, and maintenance of recreational water-use facilities, affecting 0.1 acre of Tellico Reservoir shoreline in Loudon County, Tennessee, Tract No. XTELR-221RE.

E3. Grant of a permanent easement for a highway improvement project, without charge, except for payment of TVA's administrative costs, to the State of Tennessee, affecting approximately 0.08 acre of TVA land on Chickamauga Reservoir in Meigs County, Tennessee, Tract No. XTCR-198H.

E4. Grant of a permanent easement for a highway improvement project affecting approximately 2.56 acres of TVA land on Fontana Reservoir in Swain County, North Carolina, Tract No. XTFR-13H.

F—Other

F1. Approval to file condemnation cases to acquire easements and rights-of-way in Catoosa and Whitfield Counties, Georgia, for the West Ringgold-Center Point Transmission Line.

Information Items

1. Renegotiation of Contract No. P00P07-261998 with Cumberland River Energies, Inc., for coal supply to Bull Run Fossil Plant implementing agreement reached under a reopener of the contract.

2. Approval of David L. Babson & Company, Inc., and David J. Greene & Company, L.L.C., as new investment managers for the TVA Retirement System and approval of the Investment Managements Agreement between the Retirement System and the new investment managers.

For more information: Please call TVA Media Relations at (865) 632-6000, Knoxville, Tennessee. Information is also available at TVA's Washington Office (202) 898-2999. People who plan to attend the meeting and have special needs should call (865) 632-6000.

Dated: May 10, 2001.
Charles L. Young,
Assistant General Counsel and Assistant Secretary.

[FR Doc. 01-12359 Filed 5-11-01; 1:59 pm]

BILLING CODE 8120-08-M